EXPORT-IMPORT BANK OF THE UNITED STATES

Notice of Open Special Meeting of the Renewable Energy Exports Advisory Committee of the Export-Import Bank of the United States (Ex-Im Bank)

SUMMARY: The Renewable Energy Exports Advisory Committee was established by the Board of Directors at Ex-Im Bank to assist the Bank in meeting its objective of supporting U.S. exporters in renewable energy industries. In addition, the goal is to seek advice from the private sector about best practices when addressing renewable energy exports.

Time and Place: Monday, June 10, 2002, at 8:30 AM to 11:30 PM. The meeting will be held at Ex-Im Bank in room 1143, 811 Vermont Avenue, NW, Washington, DC 20571.

Agenda: Agenda items include the introduction of the Advisory Committee's themes and goals, an overview of Ex-Im Bank's activity in the renewable energy sector, and presentations from both the private and public sector.

Public Participation: The meeting will be open to public participation, and the last 10 minutes will be set aside for oral questions or comments. Members of the public may also file written statement(s) before or after the meeting. If any person wishes auxiliary aids (such as a sign language interpreter) or other special accommodations, please contact, prior to June 4, 2002, Nichole Westin, Room 1257, 811 Vermont Avenue, NW, Washington, DC 20571, Voice: (202) 565-3542 or TDD (202) 565-3377.

FOR FURTHER INFORMATION CONTACT: For further information, contact Nichole Westin, Room 1257, 811 Vermont Ave., NW, Washington, DC 20571, (202) 565-3542.

Peter Saba,
General Counsel.

[FR Doc. 02-13416 Filed 5-29-02; 8:45 am]

BILLING CODE 6690-01-M